DEPARTMENT OF TRANSPORTATION

Federal Railroad Administration

[Docket No. FRA 2001-9972 Formerly FRA Docket No. 87-2; Notice No. 14]

RIN 2130-AB20

Automatic Train Control (ATC) and Advanced Civil Speed Enforcement System (ACSES); Northeast Corridor (NEC) Railroads

AGENCY: Federal Railroad Administration (FRA), Department of Transportation (DOT).

ACTION: Amendments to Order of Particular Applicability Requiring ACSES Between New Haven, Connecticut and Boston, Massachusetts-Extension of Massachusetts Bay Transit Authority (MBTA) and CSX Transportation (CSXT) Temporary Operating Protocols.

SUMMARY: FRA makes two amendments to its Order of Particular Applicability requiring all trains operating on the Northeast Corridor (NEC) between New Haven, Connecticut and Boston, Massachusetts (NEC—North End) to be equipped to respond to the new Advanced Civil Speed Enforcement System (ACSES). In these amendments, FRA extends previously granted exceptions that allowed MBTA and CSXT to follow temporary operating protocols. For both MBTA and CSXT, the exceptions now run until July 1, 2002, to allow MBTA time to complete equipping its locomotives as required for ACSES service, and to allow CSXT time to complete testing of Amtrak-supplied software.

DATES: The amendments to the Order are effective March 27, 2002.

FOR FURTHER INFORMATION CONTACT: W. E. Goodman, Staff Director, Signal and Train Control Division, Office of Safety, Mail Stop 25, FRA, 1120 Vermont Avenue, NW, Washington, DC 20590 ((202) 493-6325); Paul Weber, Railroad Safety Specialist, Signal and Train Control Division, Office of Safety, Mail Stop 25, FRA, 1120 Vermont Avenue, NW, Washington, DC 20590 ((202) 493-6258); or Patricia V. Sun, Office of Chief Counsel, Mail Stop 10, 1120 Vermont Avenue, NW, Washington, DC 20590 ((202) 493-6038).

For instructions on how to use this system, visit the Docket Management System Web site (www.dms.dot.gov) and click on the “Help” menu. This docket is also available for inspection or copying at room PL-401 on the plaza level of the Nassif Building at the U.S. Department of Transportation, 400 7th Street, SW., Washington, DC 20590-0001, during regular business hours.

SUPPLEMENTARY INFORMATION: The Order of Particular Applicability (Order), as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) on the NEC—North End to be controlled by locomotives equipped to respond to ACSES by October 1, 1999. In six subsequent notices, FRA amended the Order to reset the implementation schedule and make technical changes. 64 FR 54410, October 6, 1999; 65 FR 62795, October 19, 2000; 66 FR 1718, January 9, 2001; 66 FR 34512, June 28, 2001; 66 FR 57771, November 16, 2001; and 67 FR 6753, February 12, 2002.

Background

FRA is making the amendments to this Order effective upon publication instead of 30 days after the publication date in order to realize the significant safety and transportation benefits afforded by the ACSES system at the earliest possible time. All affected parties have been notified.

FRA is not reopening the comment period since the amendments to this Order are necessary to avoid disruption of rail service. Under these circumstances, delaying the effective date of the amendments to allow for notice and comment would be impracticable, unnecessary, and contrary to the public interest.

Extension of MBTA Temporary Operating Protocols

This is the latest in a series of amendments that allows MBTA to follow temporary operating protocols whenever it cannot dispatch a train equipped with ACSES. MBTA has had repeated difficulties in equipping sufficient locomotives with ACSES by the timetable specified in the Order. It is FRA's understanding, however, that Amtrak and MBTA have reached an agreement on what is needed for MBTA to complete equipment of its locomotive fleet for ACSES service.

Amtrak and MBTA agree that 40 MBTA locomotives must be equipped with an FM-8 ACSES configuration. MBTA currently has more than 40 ACSES-equipped locomotives, but only 24 of these have an FM-8 configuration. MBTA has the materials to equip its remaining 16 ACSES-equipped locomotives with an FM-8 configuration, but estimates that it will need four days to equip each locomotive, including transit time. Using this estimate, MBTA has asked for a final extension of the temporary protocols to allow it time to complete equipment of its fleet of ACSES-equipped locomotives. FRA is pleased that Amtrak and MBTA now agree on equipment needs, and will therefore grant MBTA a last extension to use the temporary operating protocols until July 1, 2002. Other than the final extension granted above, the MBTA temporary operating protocols specified in Notice No. 11 (66 FR 34512, June 28, 2001) remain in effect without change.

Extension of CSXT Temporary Operating Protocols

On June 28, 2001, in Notice No. 11, FRA granted CSXT a relief period from the implementation schedule specified in the Order. FRA has extended this relief period several times to allow CSXT time to test new Amtrak operational software. FRA is extending the date by which CSXT must complete software testing to July 1, 2002 since Amtrak is continuing to make adjustments to its new operational software.

Other than the extension for software testing explained above, the CSXT temporary operating protocols specified in Notice No. 11 remain in effect without change.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Paragraph 11 is amended as follows:

11. Massachusetts Bay Transit Authority (MBTA) Temporary Operating Protocols

(a) Effective upon March 27, 2002 until July 1, 2002, Amtrak must adhere to the following procedures if it becomes necessary to dispatch an MBTA train from its initial terminal with inoperative onboard ACSES equipment:

* * * * *

3. Paragraph 12 is amended to read as follows:

12. CSX Transportation (CSXT) Temporary Operating Protocols

(a) Effective upon March 27, 2002 until July 1, 2002, CSXT must adhere to the following protocols if it becomes necessary to dispatch a CSXT train from its initial terminal with inoperative onboard ACSES equipment:

* * * * *

Issued in Washington, DC, on March 15, 2002.
Allan Rutter,
Federal Railroad Administrator.

[FR Doc. 02-7352 Filed 3-26-02; 8:45 am]

BILLING CODE 4910-06-P